DEPARTMENT OF HEALTH AND HUMAN SERVICES

Office of the Secretary

[Document Identifier: HHS-OS-0990-0407-60D]

Agency Information Collection Request

AGENCY: Office of the Secretary, HHS.

ACTION: Notice.

SUMMARY: In compliance with the requirement of section 3506(c)(2)(A) of the Paperwork Reduction Act of 1995, the Office of the Secretary (OS), Department of Health and Human Services, announces plans to submit an Information Collection Request (ICR), described below, to the Office of Management and Budget (OMB). A 60-day Federal Register Notice has been published for this system. This request is to approve a revision to a currently approved collection with OMB number 0990-0407, and is not a new request for approval.

DATES: Comments on the ICR must be received on or before September 29, 2015.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-0407-60D for reference.

Information Collection Request Title: Think Cultural Health (TCH) Web site Quality Improvement Effort—OMB No. 0990-0407 REVISION-HHS/OS/OMH

Abstract: The Office of Minority Health (OMH), Office of the Secretary (OS), Department of Health and Human Services (HHS) is requesting approval by OMB on a revised data collection. The Think Cultural Health (TCH) Web site is an initiative of the HHS OMH's Center for Linguistic and Cultural Competence in Health Care (CLCCHC), and is a repository of the latest resources and tools to promote cultural and linguistic competency in health and health care. The TCH Web site is unlike other government Web sites in that its suite of e-learning programs affords health and health care professionals the ability to earn continuing education credits through training in cultural and linguistic competency. The revision to this information collection request includes the online Web site registration form, course/unit evaluations specific to the resource or e-learning program course/unit completed, follow up surveys, focus groups, and key informant interviews.

Need and Proposed Use of the Information: The data will be used to ensure that the offerings on the TCH Web site are relevant, useful, and appropriate to their target audiences. The findings from the data collection will be of interest to HHS OMH in supporting maintenance and revisions of the offerings on the TCH Web site.

Total Estimated Annualized Burden—Hours
Form name | Type of respondent | Number of respondents | Number responses per respondent | Average burden per response (hours) | Total burden (hours)
Registration Form | Health and Health Care Professionals | 9460 | 1.00 | 3/60 | 473
Course/unit Evaluation Form | Health and Health Care Professionals | 9460 | 1.00 | 5/60 | 788
Follow-Up Survey | Health and Health Care Professionals | 4208 | 1.00 | 10/60 | 701
Follow-Up Survey | Community Health Workers | 6 | 2.00 | 10/60 | 2
Focus Groups | Health and Health Care Professionals | 15 | 1.00 | 120/60 | 29
Key Informant Interviews | Health and Health Care Professionals | 13 | 1.00 | 60/60 | 13
Key Informant Interviews | Community Health Workers | 25 | 1.00 | 60/60 | 25
Total |  | 23187 |  |  | 2031

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Paperwork Reduction Act Clearance Officer.

[FR Doc. 2015-18810 Filed 7-30-15; 8:45 am]

BILLING CODE 4150-29-P